INTERNATIONAL TRADE COMMISSION

[Investigation No. 701-TA-427 (Preliminary)]

Film and Television Productions From Canada

AGENCY: United States International Trade Commission.

ACTION: Revised schedule for the subject investigation.

EFFECTIVE DATE: December 17, 2001.

FOR FURTHER INFORMATION CONTACT: Diane J. Mazur (202-205-3184), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this investigation may be viewed on the Commission's electronic docket (EDIS-ON-LINE) at http://dockets.usitc.gov/eol/public.

SUPPLEMENTARY INFORMATION: On December 4, 2001, the Commission established a schedule for the conduct of the preliminary phase of the subject investigation (Federal Register 66 FR 64057, December 11, 2001). Subsequently, the Department of Commerce extended the date for its initiation in the investigation to January 14, 2002 (December 14, 2001, Commerce memorandum). The Commission, therefore, is revising its schedule to conform with Commerce's new schedule.

The Commission's new schedule for the investigation is as follows: Persons wishing to participate in the investigation as parties must file an entry of appearance with the Secretary to the Commission not later than seven days after publication of this notice in the Federal Register; parties wishing to participate in the conference should contact Diane Mazur (202-205-3184) not later than January 14, 2002, to arrange for their appearance; the conference will be held at the U.S. International Trade Commission Building at 9:30 a.m. on January 18, 2002; and the deadline for filing postconference briefs is January 24, 2002.

For further information concerning the conduct of this investigation and rules of general application, consult the Commission's Rules of Practice and Procedure, part 201, subparts A through E (19 CFR part 201), and part 207, subparts A and B (19 CFR part 207).

Authority: This investigation is being conducted under authority of title VII of the Tariff Act of 1930; this notice is published pursuant to section 207.12 of the Commission's rules.

Issued: December 17, 2001.
By order of the Commission.
Donna R. Koehnke,
Secretary.

[FR Doc. 01-31384 Filed 12-19-01; 8:45 am]

BILLING CODE 7020-02-P